DEPARTMENT OF THE TREASURY

Submission for OMB Review; Comment Request

December 3, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 20, 2004 to be assured of consideration.

Internal Revenue Service (IRS)

OMB Number: 1545-0240.

Form Number: IRS Form 6118.

Type of Review: Extension.

Title: Claim for Refund of Income Tax Return Preparer Penalties.

Description: Form 6118 is used by preparers to file for a refund of penalties incorrectly charged. The information enables the IRS to process the claim and have the refund issued to the tax return preparer.

Respondents: Individuals or households, Business or other for-profit.

Estimated Number of Respondents/Recordkeeping: 10,000.

Estimated Burden Hours Respondent/Recordkeeper:

Recordkeeping | 13 min.
Learning about the law or the form | 17 min.
Preparing the form | 11 min.
Copying, assembling, and sending the form to the IRS | 20 min.

Frequency of Response: On occasion.

Estimated Total Reporting/Recordkeeping Burden: 10,400 hours.

OMB Number: 1545-0951.

Form Number: IRS Forms 5434 and 5434-A.

Type of Review: Extension.

Title: Form 5434: Application for Enrollment; and Form 5434-A: Application for Renewal of Enrollment.

Description: The information relates to the granting of enrollment status to actuaries admitted (licensed) by the Joint Board for the Enrollment of Actuaries to perform actuarial services under the Employee Retirement Income Security Act of 1974.

Respondents: Individuals or households.

Estimated Number of Respondents/Recordkeepers: 6,000.

Estimated Burden Hours Respondent/Recordkeeper: 27 minutes.

Frequency of Response: Other (once every 3 years).

Estimated Total Reporting/Recordkeeping Burden: 3,800 hours.

OMB Number: 1545-1858.

Notice Number: Notice 2003-67.

Type of Review: Extension.

Title: Notice on Information Reporting for Payments in Lieu of Dividends.

Description: This notice provides guidance to brokers and individuals regarding provisions in the Jobs and Growth Tax Relief Reconciliation Act of 2003. The notice provides rules for brokers to use in determining honorable shares and rules for allocating transferred shares for purposes of determining payments in lieu of dividend reportable to individuals to individuals. These rules require brokers to comply with certain recordkeeping requirements to use the favorable rules for determining loanable shares and for allocating transferred shares that may give rise to payments in lieu of dividends.

Respondents: Business or other for-profit.

Estimated Number of Recordkeepers: 600.

Estimated Burden Hours Recordkeeper: 100 hours.

Estimated Total Recordkeeping Burden: 60,000 hours.

Clearance Officer: R. Joseph Durbala, (202) 622-3634, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-31204 Filed 12-17-03; 8:45 am]

BILLING CODE 4830-01-P